NUCLEAR REGULATORY COMMISSION

[Docket Nos. 52-034-COL, ASLBP No. 09-886-09-COL-BD01, and 52-035-COL]

Luminant Generation Company, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Luminant Generation Company, LLC

(Comanche Peak Nuclear Power Plant, Units 3 and 4)

This proceeding concerns a Petition to Intervene and Request for Hearing dated April 6, 2009 from the Sustainable Energy and Economic Development Coalition, et al., that was submitted in response to a February 5, 2009 Notice of Order, Hearing, and Opportunity To Petition for Leave To Intervene (74 FR 6177). Petitioners challenge the application filed by Luminant Generation Company LLC pursuant to subpart C of 10 CFR part 52 for a combined license for Comanche Peak Nuclear Power Plant, Units 3 and 4, to be located in Somervell County, Texas.

The Board is comprised of the following administrative judges:

Ann Marshall Young, Chair, Atomic Safety and Licensing Board Panel, U.S. Nuclear Regulatory Commission, Washington, DC 20555-0001,

Gary S. Arnold, Atomic Safety and Licensing Board Panel, U.S. Nuclear Regulatory Commission, Washington, DC 20555-0001,

Alice C. Mignerey, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 4th day of May 2009.
E. Roy Hawkens,
Chief Administrative Judge, Atomic Safety and Licensing Board Panel.

[FR Doc. E9-10930 Filed 5-8-09; 8:45 am]

BILLING CODE 7590-01-P